DEPARTMENT OF THE INTERIOR

National Park Service

Reinstatement, Record of Decision on the Final General Management Plan and Final Environmental Impact Statement for the Missouri National Recreational River (59-Mile District), Nebraska and South Dakota

SUMMARY: Pursuant to section 102(2)(c) of the National Environmental Policy Act (NEPA) of 1969, as amended, and the regulations promulgated by the Council on Environmental Quality (40 CFR 1505.2), the National Park Service (NPS) is announcing the Record of Decision on the Final General Management Plan (GMP) and Final Environmental Impact Statement (FEIS) for the Missouri National Recreational River (MNRR), 59-Mile District. The MNRR is located in portions of Clay, Union, and Yankton counties, South Dakota and Cedar, Dixon, and Knox counties, Nebraska.

More specifically, the NPS is reinstating a Record of Decision previously suspended by the bureau. After the Record of Decision was originally signed, it was discovered that the FEIS was inadvertently not filed with the Environmental Protection Agency (EPA) as required by 40 CFR 1506.9. Accordingly, the NPS suspended the Record of Decision (see 65 FR 10542), suspended implementation of the GMP, filed the FEIS with EPA, and reopened the required 30-day period of no-action.

DATES: The Regional Director, National Park Service, Midwest Region, and the District Engineer, Omaha District, U.S. Army Corps of Engineers approved the Record of Decision on December 17, 1999. That Record of Decision was reinstated effective April 10, 2000.

FOR FURTHER INFORMATION CONTACT: Paul Hedren, Superintendent, Missouri National Recreational River, P.O. Box 591, O'Neill, Nebraska 68763, or by e-mail to MNRR_Superintendent@nps.gov, or call 402-336-3970.

SUPPLEMENTARY INFORMATION: The EPA published its notice of availability for the FEIS in the Federal Register on March 10, 2000 (65 FR 12992). The 30-day no-action period ended on April 10, 2000. No public comments were received during this period. Accordingly, the NPS has determined that no changes to the FEIS or the original Record of Decision are necessary. The Record of Decision as printed in the Federal Register on December 17, 1999 (64 FR 72359) is reinstated.

Dated: May 8, 2000.
David N. Given,
Acting Regional Director.

[FR Doc. 00-12700 Filed 5-19-00; 8:45 am]

BILLING CODE 4310-70-P